DEPARTMENT OF AGRICULTURE

[Docket Number: USDA-2023-0007]

Notice of Request for Public Comment on 2023 Update to Technical Guidelines for Quantifying Greenhouse Gas (GHG) Emissions and Carbon Sequestration at the Entity-Scale for Agriculture and Forestry

AGENCY: Office of the Chief Economist, U.S. Department of Agriculture.

ACTION: Request for public comment.

SUMMARY: The U.S. Department of Agriculture (USDA) invites public comment on the 2023 update to Quantifying Greenhouse Gas Fluxes in Agriculture and Forestry: Methods for Entity‐Scale Inventory, Technical Bulletin Number 1939, Office of the Chief Economist, USDA, Washington, DC. This report, prepared in part to meet requirements of section 2709 of the Food, Conservation, and Energy Act of 2008, provides methods to quantify entity-scale greenhouse gas (GHG) emissions from the agriculture and forestry sectors. The updates to this report were drafted by more than 60 authors, including USDA scientists, university researchers, and experts from non-governmental organizations and research institutions. This update adds new methods, improves existing methods where appropriate, and enhances the usability of the report. Comments received under this notice will be used to further refine the update to this report in preparation for publication as a USDA Technical Bulletin. Comments submitted will help USDA to ensure the new and updated quantification methods reflect the state of the science. A series of questions have been provided in the SUPPLEMENTARY INFORMATION section below to aid review. When submitting responses, please annotate comments using the report section number designations.

DATES: Interested persons are invited to submit comments on or before 11:59 p.m. Eastern Time July 10, 2023. Comments received after the posted deadline may not be considered, regardless of postmark.

ADDRESSES: Comments submitted in response to this notice may be submitted online Via the Federal eRulemaking Portal. Go to http://www.regulations.gov and search for the Docket number USDA-2023-0007. Follow the online instructions for submitting comments.

All comments received will be posted without change and publicly available on www.regulations.gov.

FOR FURTHER INFORMATION CONTACT: Any questions about this notice should be sent to Wes Hanson, Office of Energy and Environmental Policy via email: wes.hanson@usda.gov, or telephone: 202-425-1596.

SUPPLEMENTARY INFORMATION: The Office of Energy and Environmental Policy (OEEP) operates within the Office of the Chief Economist at USDA and functions as the Department-wide focal point on agriculture, rural, and forestry-related climate change activities. OEEP ensures that USDA is a source of objective, analytical assessments of the effects of climate change and proposed response strategies.

The original 2014 report Quantifying Greenhouse Gas Fluxes in Agriculture and Forestry: Methods for Entity‐Scale Inventory was developed in response to the 2008 Farm Bill, Section 2709, which states that the United States Department of Agriculture (USDA) shall prepare technical guidelines that outline science-based methods to measure the carbon benefits from conservation and land management activities. This report provides scientifically rigorous, Department-wide guidelines for quantifying GHG emissions and carbon sequestration at the farm-, forest-, and entity-scale. The guidelines are intended for use with landowners, nongovernmental organizations, and other groups assessing increases and decreases in GHG emissions and carbon sequestration associated with changes in land management. The report and associated materials, including an erratum published in 2019, are available at: https://www.usda.gov/oce/climate_change/estimation.htm. The report also serves as the foundation for COMET-Farm (http://cometfarm.nrel.colostate.edu), a field-scale tool developed by USDA and Colorado State University that provides detailed estimates of the on-farm benefits accrued from the implementation of conservation practices.

Updates to the technical guidelines are primarily focused on adding new quantification methods for management practices that have an adequate body of research to support their GHG benefits, revising the methods where appropriate to reflect the state of the science, improving the accuracy of farm-scale GHG flux estimates, reducing ambiguity in how users select a given method, and improving the usability of the report by reorganizing the chapters to make the methods easier to access.

USDA currently requests public comment on the following:

1. Input on the usability, and the level of detail provided for the methods, practices, and technologies for quantifying of GHG emissions and carbon sequestration at the entity-scale.

1a. Is the overall flow of the report easy to follow and navigate?

1b. Is there an appropriate level of detail included for background information, and for each method?

1c. Are the methods easily followed [consider the format of the report, language or instructions used, background information provided (or not provided), etc.]?

1d. Are the method descriptions adequate for estimation of emissions at the entity scale? If not, list additional details that are needed to implement the approaches.

1e. Are the activity practice data sufficiently described for compiling this information from farm and ranch operations?

1f. Are the graphics provided useful, or are there changes that would increase clarity or accuracy?

1g. Are the data gaps provided complete or are there additional promising research that you recommend be included?

1h. There are some differences in the entity-scale methods compared to methods used in the national inventory (often due to the level of complexity and availability of entity-level data). Do you have any concerns about these differences?

1i. Is the purpose of the report and its update laid out clearly? If not, please provide any suggestions to make this more accessible to all audiences.

1j. Is the definition of an entity clearly defined?

1k. Are the system boundaries appropriate?

2. Information to improve the accuracy of the guidelines.

2a. If you are familiar with the methods provided in the original 2014 report, feel free to provide comment on the updated methods and presentation and whether the updates provide benefits.

2b. Where provided, are the methods descriptions for estimating uncertainty adequate? If not, please elaborate on the missing information or need for further details to quantify uncertainty.

3. Information to improve the usability of the methods.

3a. Has the reorganization of the report chapters improved the flow of the chapters, and the usability of the technical guidelines?

3b. Are there additional improvements that could be made to improve the usability of the technical guidelines?

3c. What specific changes or improvements could be made to the COMET-Farm online tool to improve the implementation of the USDA technical guidelines?

Please provide information including citations and/or contact details to the address listed above.

Seth Meyer,
Chief Economist.

[FR Doc. 2023-12312 Filed 6-8-23; 8:45 am]

BILLING CODE 3410-GL-P